NATIONAL TRANSPORTATION SAFETY BOARD

49 CFR Part 801

[Docket No.: NTSB-2021-0006]

Internal Personnel Rules and Practices of the NTSB; Corrections

AGENCY: National Transportation Safety Board (NTSB).

ACTION: Correcting amendments.

SUMMARY: This document corrects the wording reflected in various sections in part 801 as a result of the amendatory language in the interim final rule (IFR) published in the Federal Register (FR) on October 4, 2021. The IFR amended part 801, in pertinent part, by revising all references to “public reading room” to read “electronic reading room”. Consequently, that revision resulted in needless repetition of “electronic reading room” in several part 801 regulations. This correction amends the affected regulations to reflect the agency's original intent.

DATES: Effective on December 30, 2021.

FOR FURTHER INFORMATION CONTACT: Kathleen Silbaugh, General Counsel, (202) 314-6080, rulemaking@ntsb.gov.

SUPPLEMENTARY INFORMATION: This document corrects the wording of certain regulations in part 801 affected by the amendatory language reflected in the IFR published in the FR on October 4, 2021. 86 FR 54641 (Oct. 4, 2021). Specifically, the IFR amended part 801, in part, by revising all references to “public reading room” to read “electronic reading room”. As seen below, that amendatory instruction resulted in the needless repetition of the word “electronic reading room” in 49 CFR 801.10(b)(2), 801.10(c), 801.30, 801.31, 801.32(b), 801.41.

For example, § 801.10(b)(2) originally read that the NTSB's Chief, Records Management Division “[m]aintains a public reference room and an electronic reading room in accordance with 5 U.S.C. 552(a)(2). The NTSB's public reference room is located at 490 L'Enfant Plaza SW, Washington, DC. The NTSB's electronic reading room is located on the NTSB's FOIA website, found at http://www.ntsb.gov/.” (Emphasis added.)

After the IFR, however, that regulation currently provides that the NTSB's Chief, Records Management Division “[m]aintains an electronic reading room and an electronic reading room in accordance with 5 U.S.C. 552(a)(2). The NTSB's electronic reading room is located at 490 L'Enfant Plaza SW, Washington, DC. The NTSB's electronic reading room is located on the NTSB's FOIA website, found at http://www.ntsb.gov/.” (Emphasis added.)

To eliminate the redundancy, this document will revise that section to read: “Maintains an electronic reading room in accordance with 5 U.S.C. 552(a)(2). The NTSB's electronic reading room is accessible on the NTSB's FOIA website at https://www.ntsb.gov/.”

This document will further revise the remaining affected regulations to reflect the agency's original intent for part 801.

List of Subjects in 49 CFR Part 801

Archives and records, Freedom of information.

Accordingly, 49 CFR part 801 is corrected by making the following correcting amendments:

PART 801—PUBLIC AVAILABILITY OF INFORMATION

1. The authority citation for part 801 continues to read as follows:

Authority: 49 U.S.C. 1113(f); 5 U.S.C. 552; 18 U.S.C. 641, 2071; 31 U.S.C. 3717, 9701; 44 U.S.C. Chapters 21, 29, 31, and 33.

2. Amend § 801.10 by revising paragraphs (b)(2) and (c) introductory text to read as follows:

§ 801.10 General.

* * * * *

(b) * * *

(2) Maintains an electronic reading room in accordance with 5 U.S.C. 552(a)(2). The NTSB's electronic reading room is accessible on the NTSB's FOIA website at https://www.ntsb.gov/.

* * * * *

(c) The NTSB maintains in its electronic reading room, making the following available:

* * * * *

3. Revise § 801.30 to read as follows:

§ 801.30 Records from accident investigations.

Upon completion of an accident investigation, the NTSB will compile a public docket containing investigators' factual reports, and documents and exhibits that the agency deemed pertinent to the investigation. The Chief, Records Management Division, will then make the docket available on the NTSB website.

4. Revise § 801.31 to read as follows:

§ 801.31 Public hearings regarding investigations.

Within approximately four (4) weeks after a public investigative hearing conducted in accordance with part 845, subpart A, of this chapter, the Chief, Records Management Division, will make the hearing transcript available in the electronic reading room. On or before the date of the hearing, the Chief, Records Management Division, will make the exhibits introduced at the hearing available on the NTSB website.

5. Amend § 801.32 by revising paragraph (b) to read as follows:

§ 801.32 Accident reports.

* * * * *

(b) These reports will be made available on the NTSB electronic reading room.

6. Revise § 801.41 to read as follows:

§ 801.41 Reports to Congress.

The NTSB submits its annual report to Congress, in accordance with 49 U.S.C. 1117. The report will be available on the NTSB's website at https://www.ntsb.gov. Interested parties may purchase the report from the U.S. Government Publishing Office or review it in the NTSB's electronic reading room. All other reports or comments to Congress will be available in the NTSB's electronic reading room.

Jennifer Homendy,
Chair.

[FR Doc. 2021-27300 Filed 12-29-21; 8:45 am]

BILLING CODE 7533-01-P